Title 3—

The President

Presidential Determination No. 2018-13 of September 28, 2018

Presidential Determination With Respect to the Child Soldiers Prevention Act of 2008

Memorandum for the Secretary of State

Pursuant to section 404 of the Child Soldiers Prevention Act of 2008 (22 U.S.C. 2370c-1) (CSPA), I hereby determine as follows:

It is in the national interest of the United States to waive the application of the prohibition in section 404(a) of the CSPA with respect to Iraq, Mali, Niger, and Nigeria; to waive the application of the prohibition in section 404(a) of the CSPA with respect to Somalia to allow for the provision of International Military Education and Training assistance, Peacekeeping Operations (PKO) assistance, and support provided pursuant to 10 U.S.C. 333, to the extent the CSPA would restrict such assistance or support; to waive the application of the prohibition in section 404(a) of the CSPA with respect to South Sudan to allow for PKO assistance, to the extent the CSPA would restrict such assistance or support; and to waive the application of the prohibition in section 404(a) of the CSPA with respect to Yemen to allow for PKO assistance, to the extent the CSPA would restrict such assistance or support. Accordingly, I hereby waive such applications of section 404(a) of the CSPA.

You are authorized and directed to submit this determination to the Congress, along with the Memorandum of Justification, and to publish the determination in the Federal Register.

THE WHITE HOUSE,

Washington, September 28, 2018

[FR Doc. 2018-23245

Filed 10-22-18; 8:45 am]

Billing code 4710-10-P